DEPARTMENT OF TRANSPORTATION

Office of the Secretary

Notice of Applications for Certificates of Public Convenience and Necessity and Foreign Air Carrier Permits Filed Under Subpart B (Formerly Subpart Q) During the Week Ending March 3, 2012

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0032.

Date Filed: March 3, 2012.

Due Date for Answers, Conforming Applications, or Motion to Modify Scope: March 23, 2012.

Description: Application of All Nippon Airways Co., Ltd. (“ANA”) requesting an exemption and an amended foreign air carrier permit ANA to operate the following services: (i) Scheduled foreign air transportation of persons, property, and mail (separately or in combination) from points behind Japan via Japan and intermediate points to a point or points in the United States and beyond; (ii) charter foreign air transportation of persons, property, and mail (separately or in combination) between any point or points in Japan and any point or points in the United States and between any point or points in the United States and any point or points in any third country; and, (iii) other charters.

Renee V. Wright,
Program Manager, Docket Operations, Federal Register Liaison.

[FR Doc. 2012-8453 Filed 4-6-12; 8:45 am]

BILLING CODE 4910-9X-P